DEPARTMENT OF COMMERCE

International Trade Administration

[A-570-983]

Drawn Stainless Steel Sinks From the People's Republic of China: Final Results of Antidumping Duty Administrative Review and Final Determination of No Shipments; 2015-2016

AGENCY: Enforcement and Compliance, International Trade Administration, Department of Commerce.

SUMMARY: On May 5, 2017, the Department of Commerce (the Department) published the preliminary results of the administrative review of the antidumping duty order on drawn stainless steel sinks (drawn sinks) from the People's Republic of China (PRC). The period of review (POR) is April 1, 2015, through March 31, 2016. No interested party submitted comments on the preliminary results. Therefore, for the final results, we continue to find that Guangdong Dongyuan Kitchenware Industrial Co., Ltd. (Dongyuan) and Guangdong Yingao Kitchen Utensils Co. Ltd. (Yingao) made sales at of subject merchandise at prices below normal value (NV) during the period of review (POR). We also continue to grant separate rates to ten companies which demonstrated eligibility for separate rate status but were not selected for individual examination. Finally, we continue to find that New Shichu Import and Export Company Limited (New Shichu) made no shipments of subject merchandise during the POR.

DATES: Effective June 23, 2017.

FOR FURTHER INFORMATION CONTACT: Terre Keaton Stefanova or Rebecca Janz, AD/CVD Operations, Office II, Enforcement and Compliance, International Trade Administration, U.S. Department of Commerce, 1401 Constitution Avenue NW., Washington, DC 20230; telephone: (202) 482-1280 or (202) 482-2972, respectively.

SUPPLEMENTARY INFORMATION: On May 5, 2017, the Department published the Preliminary Results.¹ The POR is April 1, 2015, through March 31, 2016. We invited parties to comment on the Preliminary Results; none were submitted. The Department conducted this administrative review in accordance with section 751 of the Tariff Act of 1930, as amended (the Act).

¹ See Drawn Stainless Steel Sinks from the People's Republic of China: Preliminary Results of the Antidumping Duty Administrative Review and Preliminary Determination of No Shipments; 2015-2016, 82 FR 21192 (May 5, 2017) (Preliminary Results), and accompanying Preliminary Decision Memorandum, for a full description of the scope of the order.

Scope of the Order

The products covered by the order include drawn stainless steel sinks. Imports of subject merchandise are currently classified under the Harmonized Tariff Schedule of the United States (HTSUS) subheadings 7324.10.0000 and 7324.10.0010. Although the HTSUS subheadings are provided for convenience and customs purposes, the written description of the scope of the order is dispositive.²

² Id.

Final Results of Review and Final Determination of No Shipments

As noted above, we received no comments from interested parties on the Preliminary Results. Therefore, we have not modified our analysis from that presented in the Preliminary Results, and no decision memorandum accompanies this Federal Register notice. As a result, we continue to find that Dongyuan and Yingao made sales of subject merchandise at less than NV during the POR. In addition, we continue to find that the following ten companies which were not selected for individual examination are eligible for a separate rate: Feidong Import and Export Co., Ltd.; Ningbo Afa Kitchen and Bath Co., Ltd.; Xinhe Stainless Steel Products Co., Ltd.; KaiPing Dawn Plumbing Products, Inc.; Jiangmen Hongmao Trading Co., Ltd.; Jiangmen New Star Hi-Tech Enterprise Ltd.; Foshan Zhaoshun Trade Co., Ltd; Zhuhai KOHLER Kitchen & Bathroom Products Co., Ltd.; B&R Industries Limited; and Zhongshan Superte Kitchenware Co., Ltd. Finally, we continue to find that New Shichu made no shipments of subject merchandise during the POR.

For further discussion of the issues addressed in this proceeding, see the Preliminary Results and accompanying Preliminary Decision Memorandum. We are assigning the following weighted-average dumping margins to the respondents for the period April 1, 2015, through March 31, 2016:

Exporter | Weighted- average dumping margins (percent)
B&R Industries, Ltd.* | 1.78
Feidong Import & Export Co., Ltd.* | 1.78
Foshan Zhaoshun Trade Co., Ltd.* | 1.78
Guangdong Dongyuan Kitchenware Industrial Co., Ltd. | 1.80
Guangdong Yingao Kitchen Utensils Co. Ltd. | 1.68
Jiangmen Hongmao Trading Co., Ltd.* | 1.78
Jiangmen New Star Hi-Tech Enterprise Ltd.* | 1.78
KaiPing Dawn Plumbing Products, Co., Ltd.* | 1.78
Nigbo Afa Kitchen and Bath Co., Ltd.* | 1.78
Xinhe Stainless Steel Products Co., Ltd.* | 1.78
Zhongshan Superte Kitchenware Co., Ltd.* | 1.78
Zhuhai KOHLER Kitchen & Bathroom Products, Co., Ltd.* | 1.78
* This company demonstrated that it qualified for a separate rate in this administrative review. We assigned this company a rate which is the average of the weighted-average dumping margins assigned to Dongyuan and Yingao. See the Preliminary Results and the accompanying Preliminary Decision Memorandum.

Assessment Rates

Pursuant to section 751(a)(2)(C) of the Act and 19 CFR 351.212(b), the Department determined, and U.S. Customs and Border Protection (CBP) shall assess, antidumping duties on all appropriate entries of subject merchandise in accordance with the final results of this review. The Department intends to issue appropriate assessment instructions directly to CBP 15 days after publication of the final results of this administrative review.

For Dongyuan and Yingao, which have above weighted-average dumping margins above zero or de minimis (i.e., less than 0.5 percent), we calculated importer- (or customer-) specific per-unit duty assessment rates based on the ratio of the total amount of dumping calculated for the importer's (or customer's) examined sales to the total sales quantity associated with those sales, in accordance with 19 CFR 351.212(b)(1). Where either the respondents' weighted-average dumping margin is zero or de minimis, or an importer-(or customer-) specific assessment rate is zero or de minimis, we will instruct CBP to liquidate the appropriate entries without regard to antidumping duties.

For the respondents which were not selected for individual examination in this administrative review and which qualified for a separate rate, the assessment rate is equal to the average of the weighted-average dumping margins assigned to Dongyuan and Yingao, or 1.78 percent.

The Department has refined its assessment practice in NME cases. Pursuant to this refinement in practice, for entries that were not reported in the U.S. sales databases submitted by Dongyuan or Yingao, the Department will instruct CBP to liquidate such entries at the PRC-wide rate. In addition, because the Department determined that New Shichu had no shipments of the subject merchandise, any suspended entries of subject merchandise from New Shichu will be liquidated at the PRC-wide rate.³

³ For a full discussion of this practice, see Non-Market Economy Antidumping Proceedings: Assessment of Antidumping Duties, 76 FR 65694 (October 24, 2011) (NME Antidumping Proceedings).

Cash Deposit Requirements

The following cash deposit requirements will be effective upon publication of the final results of this administrative review for all shipments of the subject merchandise from the PRC entered, or withdrawn from warehouse, for consumption on or after the publication date, as provided for by section 751(a)(2)(C) of the Act: (1) For the companies listed above that have a separate rate, the cash deposit rate will be that rate established in the final results of this review (except, if the rate is zero or de minimis, then a cash deposit rate of zero will be established for that company); (2) for previously investigated or reviewed PRC and non-PRC exporters that received a separate rate in a prior segment of this proceeding, the cash deposit rate will continue to be the existing exporter-specific rate; (3) for all PRC exporters of subject merchandise that have not been found to be entitled to a separate rate, the cash deposit rate will be the rate for the PRC-wide entity, which is 76.45 percent; and (4) for all non-PRC exporters of subject merchandise which have not received their own rate, the cash deposit rate will be the rate applicable to the PRC exporter(s) that supplied that non-PRC exporter. These deposit requirements, when imposed, shall remain in effect until further notice.

Notification to Importers

This notice serves as the only reminder to importers of their responsibility, under 19 CFR 351.402(f)(2), to file a certificate regarding the reimbursement of antidumping duties prior to liquidation of the relevant entries during this review period. Failure to comply with this requirement could result in the Secretary's presumption that reimbursement of antidumping duties occurred and the subsequent assessment of double antidumping duties.

Notification Regarding Administrative Protective Order

This notice serves as the only reminder to parties subject to administrative protective order (APO) of their responsibility concerning the disposition of proprietary information disclosed under APO in accordance with 19 CFR 351.305(a)(3). Timely written notification of return/destruction of APO materials or conversion to judicial protective order is hereby requested. Failure to comply with the regulations and the terms of an APO is a sanctionable violation.

Notification to Interested Parties

We are issuing and publishing this notice in accordance with sections 751(a)(1) and 777(i) of the Act and 19 CFR 351.213(h).

Dated: June 19, 2017.
Gary Taverman,
Deputy Assistant Secretary for Antidumping and Countervailing Duty Operations.

[FR Doc. 2017-13121 Filed 6-22-17; 8:45 am]

BILLING CODE 3510-DS-P